DEPARTMENT OF ENERGY

Office of Energy Efficiency and Renewable Energy

[Docket Number. EERE-2014-BT-BLDG-0050]

Request for Information (RFI) for Definition for Zero Energy Buildings

AGENCY: Office of Energy Efficiency and Renewable Energy, Department of Energy.

ACTION: Request for Information, RFI.

SUMMARY: The U.S. Department of Energy (DOE or the Department) seeks to develop a common definition for Zero Energy Buildings (ZEBs). A broadly accepted market definition of ZEB boundaries and metrics is foundational to efforts by governments, utilities, or private entities to recognize or incentivize zero energy buildings. DOE seeks comments and information related to the zero energy definitions, nomenclature, and implementation guidelines.

DATES: Written comments and information are requested on or before February 20, 2015.

ADDRESSES: Interested persons are encouraged to submit comments electronically. Interested persons may submit comments, identified by docket number EERE-2014-BT-BLDG-0050. Your response should be limited to 4 pages.

Email: To ZEB2014BLDG0050@ee.doe.gov. Include EERE-2014-BT-BLDG-0050 in the subject line of the message. Submit electronic comments in Microsoft Word or Microsoft Excel, and avoid the use of special characters or any form of encryption.

Instructions: All submissions received must include the agency name and docket number.

Docket: The docket is available for review at www.regulations.gov, including Federal Register notices, comments, and other supporting documents/materials (search EERE-2014-BT-BLDG-0050). All documents in the docket are listed in the www.regulations.gov index.

A link to the docket Web page can be found at: http://www.regulations.gov/#!docketDetail;D=EERE-2014-BT-BLDG-0050. This Web page contains a link to the docket for this notice on the www.regulations.gov site. The www.regulations.gov Web page contains instructions on how to access all documents, including public comments, in the docket. See section II, Public Participation for further information on submitting comments. The content that we are requesting your feedback on is located at https://buildingdata.energy.gov/cbrd/resource/1665.

FOR FURTHER INFORMATION CONTACT: Direct requests for additional information may be sent to Ms. Sonia Punjabi, U.S. Department of Energy, Office of Energy Efficiency and Renewable Energy, Building Technologies Program, EE-5B, 1000 Independence Avenue SW., Washington, DC 20585-0121. Telephone: 202-287-1866. Email: Sonia.Punjabi@ee.doe.gov. Ms. Ami Grace-Tardy, U.S. Department of Energy, Office of the General Counsel, GC-33, 1000 Independence Avenue SW., Washington, DC 20585-0121. Telephone: (202) 586-5709. Email: Ami.Grace-Tardy@hq.doe.gov.

SUPPLEMENTARY INFORMATION:

I. Discussion

The U.S. Department of Energy (DOE or the Department) seeks to develop common definitions for Zero Energy Buildings (ZEBs). Broadly accepted market definitions of ZEB boundaries and metrics are foundational to efforts by governments, utilities, or private entities to recognize or incentivize zero energy buildings. DOE expects to use the definition and guidelines in DOE projects that provide guidance on the design or operations of zero energy buildings, and in any DOE programs that recognize or track zero energy buildings.

To help inform decision-making regarding commonly-accepted ZEB definitions and nomenclature, DOE is publishing this to request information and comment about the definitions, nomenclature, and guidelines. The Department will consider all input it receives and plans to publish a report on definitions in 2015. In particular, DOE seeks comment and information about the topics below.

1. Definitions: Are the Zero Energy Building, Zero Energy Campus, Zero Energy Portfolio, and Zero Energy Community definitions reasonable and appropriate when applied to their respective scopes? Should the broad characterizations of zero energy be changed in any way between building, campus, portfolio and community?

2. Nomenclature: Are the definitions provided in the nomenclature section of the draft clear and complete? Please provide specific feedback about these definitions.

3. Are there any recommendations regarding the topics addressed in the section “Additional considerations under review”?

4. Are there any specific recommendations for a uniform approach to tracking renewable energy generation for the purpose or “zero energy” claims to avoid double-counting?

5. Are there any other recommendations that would help clarify and improve the definitions, nomenclature, and guidelines?

II. Public Participation

All interested parties are invited to submit in writing by the date specified previously in the DATES section of this RFI, comments and information on all elements listed in the discussion section above. DOE considers public participation to be an important part of the process for developing a commonly-accepted definition of Zero Energy Buildings.

Comments may be submitted in writing via email on or before February 20, 2015. Please limit comments to no more than a total of 4 pages.

Issued in Washington, DC, on December 30, 2014.
Kathleen B. Hogan,
Deputy Assistant Secretary for Energy Efficiency, Office of Technology Development, Energy Efficiency and Renewable Energy.

[FR Doc. 2014-30927 Filed 1-5-15; 8:45 am]

BILLING CODE 6450-01-P